DEPARTMENT OF TRANSPORTATION

Maritime Administration

Funding Opportunity for America's Marine Highways Projects

AGENCY: Maritime Administration, Department of Transportation.

ACTION: Notice of funding opportunity.

SUMMARY: The Consolidated Appropriations Act of 2016 (Pub. L. 114-113), signed by the President on December 18, 2015, appropriated $5,000,000 for the Short Sea Transportation Program (America's Marine Highways). The purpose of the appropriation is to make grants for projects related to documented vessels and port and landside infrastructure. This notice announces the availability of funding for Marine Highway grants and establishes selection criteria and application requirements.

The Department of Transportation (Department) will award Marine Highway Grants to implement projects or components of projects designated under America's Marine Highway Program. Eligible applicants must be sponsors of Marine Highway Projects formally designated by the Secretary of Transportation (Secretary). The current list of designated Marine Highway Projects, and sponsors thereof, can be found on the Marine Highway Web site at: http://www.marad.dot.gov/wp-content/uploads/pdf/Marine-Highway-Project-Description-Pages.pdf. Only sponsors of designated Marine Highway Projects are eligible to apply for a Marine Highway Grant as described in this notice.

MARAD invites applications for projects that have the added benefit of mitigating the negative impact of freight movement on communities. Projects should also provide additional public benefit by addressing access to training and job opportunities, where applicable and appropriate.

DATES: Applications must be received by 8:00 p.m. Eastern Daylight Time (EDT) on Friday, May 27, 2016. Applications received later than this time will not be considered.

ADDRESSES: Grant applications must be submitted electronically using www.Grants.gov. Please be aware that you must complete the Grants.gov registration process before submitting an application, and that the registration process usually takes 2 to 4 weeks to complete. Applications must be submitted by 8:00 p.m. EDT on Friday, May 27, 2016.

Application Process

Applicants are strongly encouraged to make submissions in advance of the deadline. Applications received after the deadline will not be considered except in the case of unforeseen technical difficulties as outlined below. Late applications that are the result of failure to register or comply with Grants.gov applicant requirements in a timely manner will not be considered. Applicants experiencing technical issues with Grants.gov that are beyond the applicant's control must contact MH@dot.gov or Tim Pickering at 202-366-0704 prior to the deadline with the user name of the registrant and details of the technical issue experienced. The applicant must provide: 1. Details of the technical issue experienced; 2. Screen capture(s) of the technical issue experienced along with corresponding “Grant tracking number” (Grants.gov); 3. The “Legal Business Name” for the applicant that was provided in the SF-424; 4. The AOR name submitted in the SF-424 (Grants.gov); 5. The DUNS number associated with the Application; and 6. The Grants.gov Help Desk Tracking Number.

FOR FURTHER INFORMATION CONTACT: For further information concerning this notice, please contact Tori Collins, Office of Marine Highways and Passenger Service, Room W21-315, Maritime Administration, 1200 New Jersey Ave. SE., Washington, DC 20590. Phone (202) 366-0795 or email Tori.Collins@dot.gov.

SUPPLEMENTARY INFORMATION:

Table of Contents

A. Program Description

B. Federal Award Information

C. Eligibility Information

D. Application and Submission Information

E. Application Review Information

F. Federal Award Administration Information

G. Federal Awarding Agency Contacts

A. Program Description

Section 55601 of Title 46 of the United States Code directs the Secretary to establish a short sea transportation grant program to implement projects or components of designated projects. The grant funds currently available are for projects related to documented vessels, and port and landside infrastructure.

B. Federal Award Information

Under the Marine Highways Grant Program there is currently $5,000,000 available for designated Marine Highway Projects. Only projects proposed by a project sponsor that have been formally designated by the Secretary under the America's Marine Highway Program are eligible. The Secretary, through the Maritime Administration (MARAD), intends to award the available funding through grants to the extent that there are worthy applications. MARAD will seek to obtain the maximum benefit from the available funding by awarding grants to as many of the most worthy projects as possible. However, MARAD reserves the right to award all funds to just one project. MARAD may partially fund applications by selecting parts of various discrete projects. The start date and period of performance for each award will depend on the specific project and must be agreed to by MARAD.

C. Eligibility Information

1. Eligible Applicants

Applicants eligible for Marine Highway Grants are sponsors of projects that the Secretary has designated as a specific Marine Highway Project under the America's Marine Highway Program. Project sponsors are public entities including metropolitan planning organizations (MPOs), State governments (including State Departments of Transportation), port authorities and tribal governments. Project sponsors are encouraged to develop coalitions and public/private partnerships, which include vessel owners and operators; third-party logistics providers; trucking companies; shippers; railroads; port authorities; State, regional and local transportation planners; environmental interests; impacted communities; or any combination of entities working in collaboration under a single application.

2. Cost Sharing or Matching

An applicant must provide at least 20 percent of project costs from non-Federal sources. In awarding grants under the program, MARAD will give preference to those projects or components that present the most financially viable transportation services and require the lowest total percentage of the Federal share of the costs.

3. Eligible Projects

The intent of this grant program is to expand the use of water transportation using designated projects to create new or expanded services along designated Marine Highway Routes. Components of projects that are eligible for this round of grant funding include the following:

—Port and terminal infrastructure including wharves, docks, terminals and paving, etc.,

—Cargo, passenger and/or vessel handling equipment,

—Efficiency or capacity improvements in ports, terminals, aboard vessels and intermodal connectors, etc.,

—Investments that improve environmental sustainability,

—New or used vessel purchase, lease, or modification,

—Marine Highway demonstration projects of a limited duration, and

—Planning, preparation and design efforts in support of Marine Highway Projects.

D. Application and Submission Information

1. Application Process

Applications must be filed on Application for Federal Assistance, SF-424, which is available on the Grants.gov Web site.

2. Content and Form of Application Submission

Grant applications should be submitted using Grants.gov. The application should include all of the information requested below. MARAD reserves the right to ask any applicant for supplemental data, but expects applications to be complete upon submission. To the extent practical, MARAD encourages applicants to provide data and evidence of project merits in a form that is verifiable.

a. Length of Application. The narrative portion of an application should be in standard academic format (i.e. 12 pt. font, double spaced) and not exceed 10 pages. Documentation supporting assertions made in the narrative portion may also be provided, but should be limited to relevant information. If possible, Web site links to supporting documentation should be provided instead of copies of these materials. In the applicant's discretion, relevant materials provided previously in support of a Marine Highway Project application may be referenced and described as unchanged. To the extent referenced, this information need not be resubmitted in support of a Marine Highway grant application.

b. First Page of Application. The first page of the application should provide the following items of information:

(i.) Marine Highway Project name (as stated in the Department's Letter of Designation);

(ii.) Primary point of contact for applicant;

(iii.) Total amount of the project cost in dollars and the amount of grant funds the applicant is seeking, along with sources, and share of other matching funds;

(iv.) Summary statement of how the grant funding will be applied;

(v.) Project parties; and

(vi.) Unique entity identifier number. Recipients of Marine Highway grants and their first-tier sub-awardees must have Unique Entity Identifier numbers (https://fedgov.dnb.com/webform) and current registrations in the System for Award Management (SAM).

c. Contact Information. An application should include the name, phone number, email address and organization address of the primary point of contact for the applicant. MARAD will use this information to inform applicants of our decision regarding selection of grantees, as well as to contact them in the event that we need additional or supplemental information regarding an application.

d. Grant Funds and Sources and Uses of Project Funds. An application should include specific information about the amount of grant funding requested, sources and uses of all project funds, total project costs, percentage of project costs that would be paid with Marine Highway grant funds and the identity and percentage shares of all parties providing funds for the project.

e. National Environmental Policy Act (NEPA) Requirement. Should a project be selected for grant award, the project must comply with NEPA. If the NEPA process is underway but not complete at the time of the application, the application must detail where the project is in the process, indicate the anticipated date of completion, and provide a Web site link or other reference to copies of any environmental documents prepared.

f. Other Federal, State and Local Actions. An application must indicate whether the proposed project is likely to require actions by other agencies (e.g., permits), indicate the status of such actions, and provide a Web site link or other reference to materials submitted to the other agencies, and demonstrate compliance with other Federal, State, or local regulations and permits as applicable.

g. Certification Requirements. In order for an application to be considered for a grant award, the Chief Executive Officer or equivalent of the applicant is required to certify, in writing, the following:

(i.) That, except as noted in this grant application, nothing has changed from the original application for formal designation as a Marine Highway Project;

(ii.) The project sponsor will administer the project and any funds received will be spent efficiently and effectively; and

(iii.) Applicant will provide information, data, and reports as required.

h. Protection of Confidential Commercial Information. Applicants should submit, as part of or in support of an application, publicly available data or data that can be made public and methodologies that are accepted by industry practice and standards, to the extent possible. If the application includes information that the applicant considers to be a trade secret or confidential commercial or financial information, the applicant should do the following: (1) Note on the front cover that the submission “Contains Confidential Commercial Information (CCI)”; (2) mark each affected page “CCI”; and (3) highlight or otherwise denote the CCI portions. MARAD will protect such information from disclosure to the extent allowed under applicable law. In the event MARAD receives a Freedom of Information Act (FOIA) request for the information, procedures described in the Department's FOIA regulation at 49 CFR 7.29 will be followed. Only information that is ultimately determined to be confidential under that procedure will be exempt from disclosure under FOIA.

3. Unique Entity Identifier and System for Award Management (SAM)

MARAD will not make an award to an applicant until the applicant has complied with all applicable unique entity identifier and SAM requirements, if applicable. Each applicant must be registered in SAM before submitting an application, and maintain an active SAM registration with current information throughout the period of the award. Applicants may register with the SAM at www.SAM.gov. Applicants can obtain a Unique Entity Identifier number at http://fedgov.dnb.com/webform.

4. Submission Dates and Times

Applications must be received by 8:00 p.m. EDT on Friday, May 27, 2016. Applications received later than this time will not be considered.

5. Funding Restrictions

While Marine Highway Grant funds may be used for demonstration projects, they will not be used as an operating subsidy.

E. Application Review Information

1. Selection Criteria

MARAD will consider the following criteria in the evaluation process: (1) Reduction of external cost and public benefit; (2) whether the project offers a lower-cost alternative to increasing land-based capacity; and (3) demonstration of the likelihood of financial viability. Applicants will have provided this information during the project designation process. As certain elements of the original project application may have changed, applicants must provide more detailed information regarding market information and cost modeling with the grant application.

Applicants may opt to provide additional information specific to the above criteria if they desire. While not mandatory, this additional information will help ensure that MARAD has as much information as possible to evaluate the applications against the selection criteria identified below. In deciding whether to do so, applicants should consider the application requirements set out at 46 U.S.C. 55601(g)(2)(B) that state in order to receive a grant under the program, the applicants must demonstrate that: (A) The project is financially viable; (B) the funds received will be spent efficiently and effectively; and, (C) a market exists for the services of the proposed project as evidenced by contracts or written statements of intent from potential customers.

2. Review and Selection Process

Upon receipt, MARAD will evaluate the application using the criteria outlined above during a technical review and environmental analysis. The review will assess project scope, impact, public-benefit, environmental effects, offsetting costs, cost to the Government (if any), the likelihood of long-term self-supporting operations, market/customer commitment, operational costs, and its relationship with designated Marine Highway Routes.

Upon completion of the technical review, MARAD will forward the applications to a Department inter-agency review team (Intermodal Team). The Office of the Secretary of Transportation will lead the evaluation team and will include members of MARAD, other Department Operating Administrations, and as appropriate, representation from other Federal agencies and other representatives, as needed. The Intermodal Team will evaluate applications using criteria that establish the degree to which a proposed project can: Reduce external cost and provide public benefit, offer a lower-cost alternative to increasing capacity on the Route, and demonstrate the likelihood the service associated with the project will become self-supporting in a specified and reasonable timeframe. The Intermodal Team will assign ratings of “highly recommended,” “recommended” or “not recommended” for each application based on the criteria set forth above. The Intermodal Team will provide recommendations to the Maritime Administrator and subsequently to the Secretary.

F. Federal Award Administration

1. Federal Award Notices

Following the evaluation outlined in Section E, MARAD will announce grant awards by posting a list of selected projects on the MARAD Web site at www.marad.dot.gov. Following the announcement, MARAD will communicate to the point of contact for each successful applicant listed in the SF-424 to initiate development of the grant agreement.

2. Administrative and National Policy Requirements

All awards must be administered pursuant to the Uniform Administrative Requirements, Cost Principles and Audit Requirements for Federal Awards found in 2 CFR part 200, as adopted by the Department at 2 CFR part 1201. Additionally, all applicable Federal laws and regulations will apply to projects that receive Marine Highway grants. The period of time following award that a project is expected to expend grant funds and start construction, acquisition, or procurement will be considered on a case-by-case basis and will be specified in the project-specific grant agreement. MARAD reserves the right to revoke any award of Marine Highway grant funds and to award such funds to another project to the extent that such funds are not expended in a timely or acceptable manner and in accordance with the project schedule. Federal wage rate requirements included at 40 U.S.C. Sections 3141 to 3148 apply to all projects receiving funds under this program, and apply to all parts of the project, whether funded with other Federal funds or non-Federal funds.

3. Reporting

Grantees must submit quarterly reports to the Office of Marine Highways to keep MARAD informed of all activities during the reporting period. The reports will indicate progress made, planned activities for the next period, and a listing of any supplies and/or equipment purchased with grant funds during the reporting period. In addition, the report will include an explanation of any deviation from the projected budget and timeline. Quarterly status reports will also contain, at a minimum, the following: (1) A statement as to whether Grantee has used the Grant Funds consistent with the terms contemplated in the Grant Agreement; (2) if applicable, a description of the budgeted activities not procured by Grantee; (3) if applicable, the rationale for Grantee's failure to execute the budgeted activities; (4) if applicable, explanation as to how and when Grantee intends to accomplish the purposes of the Grant Agreement; and (5) a budget summary showing funds expended since commencement, anticipated expenditures for the next reporting period, and expenditures compared to overall budget.

4. Requirements for Products Produced in the United States

Consistent with the requirements of Section 410 of Division L—Transportation, Housing and Urban Development, and Related Agencies Appropriations Act, 2016, of the Consolidated Appropriations Act of 2016 (Pub. L. 114-113), the Buy American requirements of 41 U.S.C. 8303 apply to funds made available under this Notice of Funding Opportunity.

G. Federal Awarding Agency Contacts

For further information concerning this notice please contact Tori Collins, Office of Marine Highways and Passenger Services, Maritime Administration, Room W21- 315, 1200 New Jersey Ave. SE., Washington, DC 20590. Phone (202) 366-0951 or fax: (202) 366-6988.

To ensure applicants receive accurate information about eligibility or the program, or in response to other questions, you are encouraged to contact MARAD directly, rather than through intermediaries or third parties.

Dated: April 20, 2016.
By Order of the Maritime Administrator.
T. Mitchell Hudson, Jr.,
Secretary, Maritime Administration.

[FR Doc. 2016-09563 Filed 4-22-16; 8:45 am]

BILLING CODE 4910-81-P